DEPARTMENT OF THE TREASURY

Internal Revenue Service

26 CFR Part 1

[Docket No. TD 9366]

RIN 1545-BG38

Notification Requirement for Tax-Exempt Entities Not Currently Required To File; Correction

AGENCY: Internal Revenue Service (IRS), Treasury.

ACTION: Correction to temporary regulations.

SUMMARY: This document contains corrections to temporary regulations (TD 9366) that were published in the Federal Register on Thursday, November 15, 2007 (72 FR 64147) describing the time and manner in which certain tax-exempt organizations not currently required to file an annual information return under section 6033(a)(1) are required to submit an annual electronic notice including certain information required by section 6033(i)(1)(A) through (F).

DATES: The correction is effective December 14, 2007.

FOR FURTHER INFORMATION CONTACT: Monice Rosenbaum at (202) 622-6070 (not a toll-free number).

SUPPLEMENTARY INFORMATION:

Background

The temporary regulations (TD 9366) that are the subject of this correction are under section 6033 of the Internal Revenue Code.

Need for Correction

As published, the temporary regulations (TD 9366) contain errors that may prove to be misleading and are in need of clarification.

Correction of Publication

Accordingly, the publication of the temporary regulations (TD 9366), which was the subject of FR Doc. E7-22299, is corrected as follows:

1. On page 64148, column 3, in the preamble, the language of the paragraph heading “Form 990-N, Electronic Notification (e-Postcard) For Tax-Exempt Organizations Not Required to File Form 990 or 990-EZ” is corrected to read “Form 990-N, Electronic Notice (e-Postcard) For Tax-Exempt Organizations Not Required to File Form 990 of 990-EZ”.

2. On page 64148, column 3, in the preamble, under the paragraph heading “Form 990-N, Electronic Notice (e-Postcard) For Tax-Exempt Organizations Not Required to File Form 990 or 990-EZ”, first line of the third paragraph of the column, the language “Form 990-N, “Electronic Notification” is corrected to read “ Form 990-N, “Electronic Notice”.

3. On page 64149, column 1, in the preamble, under the paragraph heading “Organizations Required To File Returns or Submit Electronic Notice”, line 5 of the second paragraph of the column, the language “an organization exemption from” is corrected to read “an organization exempt from”.

LaNita Van Dyke,
Chief, Publications and Regulations Branch, Legal Processing Division, Associate Chief Counsel (Procedure and Administration).

[FR Doc. 07-6044 Filed 12-13-07; 8:45 am]

BILLING CODE 4830-01-M